DEPARTMENT OF THE INTERIOR

National Park Service

Native American Graves Protection and Repatriation Review Committee: Nomination Solicitation

AGENCY: National Park Service, Interior.

ACTION: Notice.

SUMMARY: This notice is a solicitation on behalf of the Secretary of the Interior for nominations to fill three vacancies on the Native American Graves Protection and Repatriation Review Committee.

DATES: Postmark or hand-delivery deadline: August 5, 2003.

ADDRESSES: 1. Via U.S. Mail: Address nominations to Mr. John Robbins, Designated Federal Official, NAGPRA Review Committee, National Park Service, 1849 C Street NW (2253), Washington, DC 20240. Because increased security in the Washington, DC, area may delay delivery of U.S. Mail to U.S. Government offices, a copy of each mailed nomination should also be faxed to (202) 371-5197.

2. Via commercial delivery: Address nominations to Mr. John Robbins, Designated Federal Official, NAGPRA Review Committee, National Park Service, 1201 Eye Street NW, 8th floor, Washington, DC 20005.

3. Via hand delivery: Address nominations to Mr. John Robbins, Designated Federal Official, NAGPRA Review Committee, National Park Service, 1201 Eye Street NW, 8th floor, Washington, DC 20005.

FOR FURTHER INFORMATION CONTACT: Dr. Martha Graham, National NAGPRA, 1849 C Street NW (2253), Washington, DC 20240, telephone (202) 354-2202, e-mail martha_graham@nps.gov.

SUPPLEMENTARY INFORMATION:

General Information

1. The Review Committee was established by the Native American Graves Protection and Repatriation Act of 1990 (NAGPRA), 25 U.S.C. 3001 et seq.

2. The Review Committee is responsible for—

a. monitoring the NAGPRA inventory and identification process;

b. reviewing and making findings related to the identity or cultural affiliation of cultural items, or the return of such items;

c. facilitating the resolution of disputes;

d. compiling an inventory of culturally unidentifiable human remains and developing a process for disposition of such remains;

e. consulting with Indian tribes and Native Hawaiian organizations and museums on matters within the scope of the work of the Review Committee affecting such tribes or organizations;

f. consulting with the Secretary of the Interior in the development of regulations to carry out NAGPRA; and

g. making recommendations regarding future care of repatriated cultural items.

3. Seven members comprise the Review Committee. All members are appointed by the Secretary of the Interior. The Secretary may not appoint Federal officers or employees to the Review Committee.

a. Three members are appointed from nominations by Indian tribes, Native Hawaiian organizations, and traditional Native American religious leaders to represent the interests of Indian tribes, Native Hawaiian organizations, and traditional Native American religions. At least two of these members shall be traditional Native American religious leaders.

b. Three members are appointed from nominations submitted by national museum organizations and scientific organizations to represent the interests of such organizations.

c. One member is appointed from a list of persons proposed by all of the other members to represent the interests of the general public.

4. Appointment terms: Per the Review Committee’s current charter, new members are appointed for 4-year terms and incumbent members may be reappointed for 2-year terms.

5. The Review Committee’s work is completed during public meetings. The Review Committee normally meets two times per year, and each meeting is normally 2½ days. The next Review Committee meeting is tentatively scheduled in Albuquerque, NM, in November 2003.

6. Compensation: Review Committee members are compensated for their participation in Review Committee meetings.

7. Reimbursement: Review Committee members are reimbursed for travel expenses incurred in association with Review Committee meetings.

8. Additional information regarding the Review Committee, including the Review Committee’s charter, meeting protocol, and dispute resolution procedures, is available on the National NAGPRA program Website, www.cr.nps.gov/nagpra (click “Review Committee” in the menu on the left).

Solicitation of Nominations: The Secretary of the Interior is soliciting nominations to fill three Review Committee vacancies, as follows -

1. One vacancy will be filled by a traditional Native American religious leader nominated by Indian tribes, Native Hawaiian organizations, and/or traditional Native American religious leaders.

2. Two vacancies will be filled by persons nominated by national museum organizations and scientific organizations.

Required Nomination Information: Nominations must include the following information; nominations that do not include all of the following information will be considered nonresponsive to this solicitation.

1. Nominations by tribes, or by national museum or scientific organizations: Nominations must be submitted on official tribal or organization letterhead with the original signature of the nominator, and the nominator’s daytime telephone number. Nominators must be the Indian tribe official or organization leader authorized by their tribe(s) or organization(s) to submit nominations in response to this solicitation, and the nomination must include a statement that the nominator is so authorized.

2. Nominations by traditional Native American religious leaders: Nominations must include a statement that the nominator is a traditional Native American religious leader and the nominator’s daytime telephone number.

3. Information about nominees: All nominations must include the following information—

a. Nominee’s name, address, and daytime telephone number (required), and e-mail address (optional).

b. Nominee’s resume or brief biography. The resume or biography should emphasize the nominee’s NAGPRA experience.

c. Nominations of traditional Native American religious leaders must include a statement by the nominator that the nominee is a traditional Native American religious leader.

Definitions of Some Terms Used in this Notice

1. Indian tribe: Any tribe, band, nation, or other organized group or community of Indians, including any Alaska Native village (as defined in, or established pursuant to, the Alaska Native Claims Settlement Act), that is recognized as eligible for the special programs and services provided by the United States to Indians because of their status as Indians. (25 U.S.C. 3001 (7))

2. Native Hawaiian organization: Any organization that—

a. serves and represents the interests of Native Hawaiians,—

b. has as a primary and stated purpose the provision of services to Native Hawaiians, and

c. has expertise in Native Hawaiian affairs, and

d. shall include the Office of Hawaiian Affairs and Hui Malama I Na Kupuna O Hawai’i Nei. (25 U.S.C. 3001 (11))

3. Indian tribe official: The principal leader of an Indian tribe or Native Hawaiian organization or the individual officially designated by the governing body of an Indian tribe or Native Hawaiian organization or as otherwise provided by tribal code, policy, or established procedure as responsible for matters relating to NAGPRA. (43 CFR 10.2 (b)(4))

4. Traditional Native American religious leader: A person who is recognized by members of an Indian tribe or Native Hawaiian organization as being responsible for performing cultural duties relating to the ceremonial or religious traditions of that Indian tribe or Native Hawaiian organization, or exercising a leadership role in an Indian tribe or Native Hawaiian organization based on the tribe’s or organization’s cultural, ceremonial, or religious practices. (43 CFR 10.2 (d)(3))

Dated: May 6, 2003.
John Robbins,
Assistant Director, Cultural Resources.

[FR Doc. 03-14313 Filed 6-5-03; 8:45 am]

BILLING CODE 4310-70-S